DEPARTMENT OF ENERGY

Federal Energy Regulatory Commission

[Docket No. RP00-450-000]

Natural Gas Pipeline Company of America; Proposed Changes in FERC Gas Tariff

August 14, 2000.

Take notice that on August 9, 2000, Natural Gas Pipeline Company of America (Natural) tendered for filing certain tariff sheets to be part of its FERC Gas Tariff, Sixth Revised Volume No. 1 (Tariff), to be effective September 11, 2000.

Natural states that these sheets were filed to make a number of minor “clean-up” type changes in its Tariff including changes in the General Terms and Conditions, Rate Schedules DSS, FRSS, IBS and FTS and in the pro forma service agreements.

Natural requests waiver of the Federal Energy Regulatory Commission's Regulations to the extent necessary to permit the tariff sheets submitted to become effective September 11, 2000.

Natural states that copies of the filing have been mailed to its customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21023 Filed 8-17-00; 8:45 am]

BILLING CODE 6717-01-M